DEPARTMENT OF LABOR

Employment and Training Administration

[TA-W-57,888]

Pentair Pump; Pentair South (Hydromatic); 1840 Baney Road, Ashland, OH; Dismissal of Application for Reconsideration

Pursuant to 29 CFR 90.18(C) an application for administrative reconsideration was filed with the Director of the Division of Trade Adjustment Assistance for workers at Pentair Pump, Pentair South (Hydromatic), 1840 Baney Road, Ashland, Ohio. The application contained no new substantial information which would bear importantly on the Department's determination. Therefore, dismissal of the application was issued.

TA-W-57,888; Pentair Pump, Pentair South (Hydromatic), Ashland, Ohio (October 20, 2005).

Signed at Washington, DC, this 20th day of October 2005.
Douglas F. Small,
Acting Director, Division of Trade Adjustment Assistance.

[FR Doc. E5-6130 Filed 11-3-05; 8:45 am]

BILLING CODE 4510-30-P